DEPARTMENT OF THE INTERIOR

National Park Service

[NPS-WASO-NAGPRA-23726; PPWOCRADN0-PCU00RP14.R50000]

Notice of Inventory Completion: U.S. Department of the Interior, Bureau of Indian Affairs, Washington, DC, and Arizona State Museum, University of Arizona, Tucson, AZ; Correction

AGENCY: National Park Service, Interior.

ACTION: Notice; correction.

SUMMARY: The U.S. Department of the Interior, Bureau of Indian Affairs, and Arizona State Museum, University of Arizona, have corrected an inventory of human remains and associated funerary objects, originally published in a Notice of Inventory Completion in the Federal Register on February 27, 2012, and subsequently published in a corrected Notice of Inventory Completion in the Federal Register on November 17, 2014. This notice corrects the minimum number of individuals and number of associated funerary objects. Lineal descendants or representatives of any Indian tribe or Native Hawaiian organization not identified in this notice that wish to request transfer of control of these human remains and associated funerary objects should submit a written request to the Bureau of Indian Affairs. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Bureau of Indian Affairs at the address in this notice by October 5, 2017.

ADDRESSES: Anna Pardo, NAGPRA Coordinator, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the correction of an inventory of human remains and associated funerary objects under the control of the U.S. Department of the Interior, Bureau of Indian Affairs, Washington, DC, and in the physical custody of the Arizona State Museum, University of Arizona, Tucson, AZ (ASM). The human remains and associated funerary objects were removed from a location within the boundaries of the Fort Apache Indian Reservation, Navajo County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects originally published in a Notice of Inventory Completion in the Federal Register (77 FR 11578-11580, February 27, 2012) and subsequently published in a corrected Notice of Inventory Completion in the Federal Register (79 FR 68472-68473, November 17, 2014). The number of human remains and associated funerary objects increased due a search through uncatalogued object collections.

Correction

In the Federal Register (79 FR 68473, November 17, 2014), column 1, paragraphs 3 and 4, under the heading “Correction,” are corrected by substituting the following paragraphs:

In the Federal Register (77 FR 11579, February 27, 2012), paragraph 7 is corrected by substituting the following paragraph:

In the years 1963 through 1977, human remains representing, at minimum, 1,023 individuals were removed from the Grasshopper Pueblo site AZ P:14:1(ASM), in Navajo County, AZ, as a result of legally authorized excavations conducted by the University of Arizona Archaeological Field School. Archeological collections from the site were brought to the museum at the end of each field season. No known individuals were identified. The 10,418 associated funerary objects are 710 animal bones, 2 animal skeletons, 1 antler wrench, 9 antler artifacts, 9 lots of beads of unidentified material, 21 bird bones, 1 bird effigy pendant, 6 bird skeletons, 1 bird skull, 31 bone artifacts, 53 bone awls, 9 bone awl fragments, 6 lots of bone beads, 2 bone needles, 47 bone rings, 1 bone spatula, 1 bone tool, 1 bone wand, 9 lots of botanical material, 2 ceramic artifacts, 719 ceramic bowls, 8 ceramic bowl fragments, 2 ceramic canteens, 1 ceramic figurine fragment, 223 ceramic jars, 7 ceramic jar fragments, 1 ceramic ladle, 4 ceramic mugs, 1 ceramic pendant, 9 ceramic pitchers, 2 ceramic plates, 1 ceramic platter, 3 ceramic scoops, 4,960 ceramic sherds, 7 ceramic sherd artifacts, 27 ceramic vessels, 7 ceramic vessel fragments, 21 chipped stone cores, 2 chipped stone drills, 2 chipped stone fire-cracked rocks, 2,233 chipped stone flakes, 1 chipped stone scraper, 1 clay sample, 14 crystals, 22 flotation samples, 10 fossils, 3 ground stones, 16 hammerstones, 1 handstone, 17 manos, 2 mano fragments, 8 lots of matting, 45 minerals, 3 mortars, 1 mosaic shell, 4 lots of organic material, 96 pebbles, 2 pecking stones, 12 pendants, 18 polishing stones, 6 pollen samples, 57 quartz crystals, 12 lots of raw material, 5 shaft straighteners, 111 shells, 3 lots of shell and stone beads, 7 shell artifacts, 1 shell artifact fragment, 32 lots of shell beads, 49 shell bracelets, 6 shell bracelet fragments, 25 shell pendants, 3 shell pendant fragments, 12 shell rings, 62 shell tinklers, 9 snail shells, 2 soil impressions, 58 soil samples, 14 stone artifacts, 1 stone axe, 8 lots of stone beads, 3 stone blades, 1 stone bowl, 1 stone disk, 6 stone figurines, 9 stone knives, 2 stone pendants, 257 stone projectile points, 7 stone scrapers, 2 stone shaft smoothers, 4 stone slabs, 12 tree ring samples, 5 lots of turquoise beads, 112 turquoise pendants, 58 turquoise tesserae, 1 lot of unidentified material, 1 lot of unidentified organic material, 4 wood fragments, 9 worked and unworked bones, and 3 worked stone flakes.

In the Federal Register (79 FR 68473, November 17, 2014), column 2, paragraphs 1 through 4, under the heading “Correction,” are corrected by substituting the following paragraphs:

In the Federal Register (77 FR 11580, February 27, 2012), paragraph 5 is corrected by substituting the following paragraph:

Pursuant to 25 U.S.C 3001(9), the human remains described in this notice represent the physical remains of 1,023 individuals or Native American ancestry.

In the Federal Register (77 FR 11580, February 27, 2012), paragraph 6 is corrected by substituting the following paragraph:

Pursuant to 25 U.S.C. 3001(3)(A), the 10,418 objects described above are reasonably believed to have been placed with or near individual human remains at the time of death or later as a part of the death rite or ceremony.

Additional Requestors and Disposition

Lineal descendants or representatives of any Indian tribe or Native Hawaiian organization not identified in this notice that wish to request transfer of control of these human remains and associated funerary objects should submit a written request with information in support of the request to Anna Pardo, NAGPRA Coordinator, Bureau of Indian Affairs, 12220 Sunrise Valley Drive, Room 6084, Reston, VA 20191, telephone (703) 390-6343, email Anna.Pardo@bia.gov, by October 5, 2017. After that date, if no additional requestors have come forward, transfer of control of the human remains and associated funerary objects to the Hopi Tribe of Arizona and Zuni Tribe of the Zuni Reservation, New Mexico may proceed.

The Arizona State Museum is responsible for notifying the Hopi Tribe of Arizona; White Mountain Apache Tribe of the Fort Apache Reservation, Arizona; and the Zuni Tribe of the Zuni Reservation, New Mexico, that this notice has been published.

Dated: August 29, 2017.
Sarah Glass,
Acting Manager, National NAGPRA Program.

[FR Doc. 2017-18684 Filed 9-1-17; 8:45 am]

BILLING CODE 4312-52-P